DEPARTMENT OF COMMERCE

National Oceanic and Atmospheric Administration

RIN 0648-XR031

Marine Mammals; File No. 23117

AGENCY: National Marine Fisheries Service (NMFS), National Oceanic and Atmospheric Administration (NOAA), Commerce.

ACTION: Notice; receipt of application.

SUMMARY: Notice is hereby given that BBC Worldwide Americas, 1120 Avenue of the Americas, New York, NY 10036 (Responsible Party: Orla Doherty), has applied in due form for a permit to conduct commercial or educational photography on Weddell seals (Leptonychotes weddellii), minke whales (Balaenoptera acutorostrata) and killer whales (Orcinus orca).

DATES: Written, telefaxed, or email comments must be received on or before October 3, 2019.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216).

The applicant proposes to film Weddell seals near McMurdo Station, Antarctica and to film killer and minke whales in ice leads of the Ross Sea. Up to 800 Weddell seals could be filmed annually from tripods on the ice, underwater divers, remotely operated underwater vehicles, pole cameras, static underwater cameras, and unmanned aircraft systems (UAS). A maximum of 200 minke whales and 500 killer whales could be filmed annually using UAS, cameras on the ice, and underwater pole and static cameras. Crabeater (Lobodon carcinophaga) and leopard (Hydrurga leptonyx) seals may be incidentally harassed during filming. Footage will be used for the Frozen Planet II television documentary series. The permit would be valid until January 31, 2021.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 27, 2019.
Julia Marie Harrison,
Chief, Permits and Conservation Division, Office of Protected Resources, National Marine Fisheries Service.

[FR Doc. 2019-18865 Filed 8-30-19; 8:45 am]

BILLING CODE 3510-22-P